DEPARTMENT OF TRANSPORTATION

Federal Aviation Administration

Proposed Advisory Circular on Outdoor Laser Operations

AGENCY: Federal Aviation Administration, DOT.

ACTION: Notice of proposed advisory circular.

SUMMARY: The Federal Aviation Administration (FAA) invites public comment on a draft Advisory Circular (AC) that provides guidance for proponents interested in conducting outdoor laser operations that may affect operators in the navigable airspace.

DATES: Comment must be received on or before September 28, 2000.

ADDRESSES: Send comments on the proposed AC to the FAA, Manager, Airspace and Rules Division, ATA-400, 800 Independence Avenue, SW, Room 423, Washington, DC 20591. Comments may also be submitted electronically to the following email address: Bnelson@faa.gov.

FOR FURTHER INFORMATION CONTACT: Bil Nelson at the above address, telephone (202) 267-8783, facsimile (202) 267-9328, or e-mail to: Bnelson@faa.gov.

SUPPLEMENTARY INFORMATION:

How Do I Obtain A Copy of the Proposed AC?

You may obtain a copy of the AC by contacting the person named above under FOR FURTHER INFORMATION CONTACT.

How Do I Submit Comments on the AC?

Interested persons are invited to comment on the proposed AC material by submitting such written data, views, or arguments as they may desire. Comments can be mailed to the above address or by electronic method Bnelson@faa.gov. Comments must identify the title of the AC and be submitted in duplicate to the address specified above. The FAA will consider all comments received on or before the closing date for comment before making a final determination in regard to AC material.

Background

In November 1995, in response to safety concerns from National Airspace System (NAS) users, the FAA initiated actions to address the potential effect of laser emissions (light beams) on aircraft operations in the NAS.

One of the actions taken by the FAA was to solicit assistance from the Food and Drug Administration (FDA), the regulatory oversight agency for performance standards for laser equipment and operations. In addition, the FAA tasked and received recommendations from the Flight Deck Laser Hazards Safety Committee of the Society of Automobile Engineers (SAE-G10t).

One of the outcomes of the above effort is the subject draft AC. The draft AC reflects the FAA's use of information and recommendations from the Center for Devices and Radiological Health (a component of the FDA) and the SAEG10t to further develop policy and establish guidance regarding the protection of aircraft operations from the potential impact of laser activity.

The AC provides information for those proponents planning to conduct lasers operations that may affect aircraft operations in the navigable airspace. The AC explains who should file a notice of a laser event, why notification to the FAA is necessary, how to notify the FAA of the laser operation, as well as what action the FAA will take to respond to such notifications.

Additionally, the AC explains what type of information is needed by the FAA to make an appropriate determination regarding proposed outdoor laser operations.

Issued in Washington, DC, on August 8, 2000.
Reginald C. Matthews,
Manager, Airspace and Rules Division.

[FR Doc. 00-20586 Filed 8-11-00; 8:45 am]

BILLING CODE 4910-13-P